FEDERAL MARITIME COMMISSION

[Docket No. 18-07]

Marine Transport Logistics, Inc. v. CMA-CGM (America), LLC; Notice of Filing of Complaint and Assignment

Notice is given that a complaint has been filed with the Federal Maritime Commission (Commission) by Marine Transport Logistics, Inc., hereinafter “Complainant”, against CMA-CGM (America), LLC, hereinafter “Respondent”. Complainant states that it is a Non-Vessel Operating Common Carrier (NVOCC) located in Bayonne, New Jersey and is licensed with the Commission. Complainant asserts that Respondent is a Vessel Operating Common Carrier (VOCC) located in East Rutherford, New Jersey.

Complainant states that Respondent was contracted to ship nine containers of cars to Yemen in December 2017 and those containers were not delivered.

Specifically, Complainant alleges that the Respondent violated:

a. “. . . Section 41102(c) of the Shipping Act in that such respondent failed to establish, observe, and enforce just reasonable regulations and practices relating to or connected with receiving, handling, or delivering of property . . .”;

b. “. . . Section 41104(9) of the Shipping Act in that, such Respondent imposed undue and unreasonable prejudice or disadvantage . . .”; and

c. “. . . Section 41104 (10) of the Shipping Act in that, such Respondent unreasonably refused to deal or negotiate . . .”

Complainant seeks reparations and other relief. The full text of the complaint can be found in the Commission's Electronic Reading Room at www.fmc.gov/18-07/. This proceeding has been assigned to the Office of Administrative Law Judges.

The initial decision of the presiding officer in this proceeding shall be issued by September 6, 2019, and the final decision of the Commission shall be issued by March 20, 2020.

Rachel E. Dickon,
Secretary.

[FR Doc. 2018-19638 Filed 9-10-18; 8:45 am]

BILLING CODE 6731-AA-P